DEPARTMENT OF ENERGY

Federal Energy Regulatory Commission

Combined Notice of Filings

Take notice that the Commission has received the following Natural Gas Pipeline Rate and Refund Report filings:

Filings Instituting Proceedings

Docket Numbers: RP22-334-000.

Applicants: Rockies Express Pipeline LLC.

Description: § 4(d) Rate Filing: REX 2021-11-19 GT&C Section 11.3 Revisions to be effective 12/19/2021.

Filed Date: 11/19/21.

Accession Number: 20211119-5201.

Comment Date: 5 p.m. ET 12/1/21.

Docket Numbers: RP22-335-000.

Applicants: Cheyenne Connector, LLC.

Description: § 4(d) Rate Filing: CC 2021-11-19 GT&C Section 11.3 Revisions to be effective 12/19/2021.

Filed Date: 11/19/21.

Accession Number: 20211119-5203.

Comment Date: 5 p.m. ET 12/1/21.

Docket Numbers: RP22-336-000.

Applicants: Texas Eastern Transmission, LP.

Description: § 4(d) Rate Filing: Negotiated Rates Filing—Noble to Direct Energy to be effective 12/1/2021.

Filed Date: 11/19/21.

Accession Number: 20211119-5222.

Comment Date: 5 p.m. ET 12/1/21.

Docket Numbers: RP22-337-000.

Applicants: Texas Eastern Transmission, LP.

Description: § 4(d) Rate Filing: TEAM 2014 Project Historical Capacity Releases to be effective 12/1/2021.

Filed Date: 11/19/21.

Accession Number: 20211119-5257.

Comment Date: 5 p.m. ET 12/1/21.

Docket Numbers: RP22-338-000.

Applicants: Iroquois Gas Transmission System, L.P.

Description: § 4(d) Rate Filing: 11.22.21 Negotiated Rates—Equinor Natural Gas LLC R-7120-14 to be effective 12/1/2021.

Filed Date: 11/22/21.

Accession Number: 20211122-5064.

Comment Date: 5 p.m. ET 12/6/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP20-614-006.

Applicants: Transcontinental Gas Pipe Line Company, LLC.

Description: Refund Report: Cash Out Refund Report Supplement Docket Nos. RP20-614 & RP20-618 to be effective N/A.

Filed Date: 11/19/21.

Accession Number: 20211119-5022.

Comment Date: 5 p.m. ET 12/1/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 22, 2021.
Kimberly D. Bose,
Secretary.

[FR Doc. 2021-25941 Filed 11-26-21; 8:45 am]

BILLING CODE 6717-01-P